DEPARTMENT OF LABOR

Employment and Training Administration

[NAFTA-04510]

The JPM Co.; Amended Certification Regarding Eligibility To Apply for NAFTA-Transitional Adjustment Assistance

In accordance with section 250(A), subchapter D, chapter 2, title II, of the Trade Act of 1974 (19 USC 2273), the Department of Labor issued a certification for NAFTA Transitional Adjustment Assistance on April 6, 2001, applicable to workers of The JPM Company, San Jose, California. The notice was published in the Federal Register on May 2, 2001 (66 FR 22008).

At the request of the State agency, the Department reviewed the certification for workers of the subject firm. The workers are engaged in the production of wire harnesses and cable assemblies. New information received from the company shows that The JPM Company merged with Denron, Inc. in 1996. Information also shows that workers separated from employment at The JPM Company had their wages reported under a separate unemployment insurance (UI) tax account for Denron, Inc.

Accordingly, the Department is amending the certification to properly reflect this matter.

The intent of the Department's certification is to include all workers of The JPM Company, San Jose, California who were adversely affected by a shift of production of wire harnesses and cable assemblies to Mexico. The amended notice applicable to NAFTA-04510 is hereby issued as follows:

All workers of The JPM Company, Denron, Inc., San Jose, California who became totally or partially separated from employment on or after January 23, 2000 through April 6, 2001 are eligible to apply for NAFTA-TAA under Section 250 of the Trade Act of 1974.

Signed at Washington, DC this 29th day of June, 2001.
Linda G. Poole,
Certifying Officer, Division of Trade Adjustment Assistance.

[FR Doc. 01-17354 Filed 7-10-01; 8:45 am]

BILLING CODE 4510-30-M